DEPARTMENT OF THE INTERIOR

Bureau of Land Management

[LLAZ931000.L13400000.PQ0000.LXSS016A000; AZA35722]

Notice of Proposed Withdrawal and Opportunity for Public Meeting, Agua Caliente Solar Energy Zone, Arizona

AGENCY: Bureau of Land Management, Interior.

ACTION: Notice.

SUMMARY: The Assistant Secretary of the Interior for Land and Minerals Management on behalf of the Bureau of Land Management (BLM) proposes to withdraw approximately 2,560 acres of public lands in Yuma County, Arizona, from location or entry under the United States mining laws, to protect and preserve for a 20-year period, the Agua Caliente Solar Energy Zone (SEZ). The lands will remain open to leasing under the mineral and geothermal leasing laws, and disposal under the Materials Act of 1947.

DATES: The BLM must receive comments and requests for a public meeting by December 22, 2014.

ADDRESSES: Comments and meeting requests should be sent to Lane Cowger, BLM Project Manager, One North Central Avenue, Suite 800, Phoenix, AZ 85004.

FOR FURTHER INFORMATION CONTACT: Lane Cowger at 602-417-9612 or email lcowger@blm.gov. Persons who use a telecommunications device for the deaf (TDD) may call the Federal Information Relay Service (FIRS) at 1 800-877-8339 to contact the above individual. The FIRS is available 24 hours a day, 7 days a week, to leave a message or question for the above individual. You will receive a reply during normal business hours.

SUPPLEMENTARY INFORMATION: The applicant is the BLM at the address above, and its application requests the Assistant Secretary of the Interior for Land and Minerals Management withdraw, subject to valid existing rights, approximately 2,560 acres of public lands in Yuma County, Arizona, from location or entry under the United States mining laws, but not from leasing under the mineral or geothermal leasing laws, or disposal under the Materials Act of 1947. The lands are described as follows:

Gila and Salt River Meridian

T. 5 S., R. 12 W.,

Sec. 15, S½NE¼NE¼, S½NW¼NE¼, S½NE¼, S½NE¼NW¼, S½NW¼NW¼, and SE¼;

Sec. 17, SE¼NE¼ and SE¼;

Sec. 20, NE¼, SE¼NW¼, E½SW¼, and SE¼;

Sec. 22, E½NE¼ and E½SE¼;

Sec. 23, W½;

Sec. 26, N½NE¼NW¼ and NW¼NW¼;

Sec. 28, W½NE¼, W½, and W½SE¼;

Sec. 29, NE¼, E½NW¼, E½SW¼, and SE¼;

Sec. 33, NW¼NW¼NE¼, N½NW¼, and NW¼SW¼NW¼.

The areas described aggregate approximately 2,560 acres, more or less, in Yuma County.

The Assistant Secretary of the Interior for Land and Minerals Management approved the BLM's application; therefore, the application constitutes a withdrawal proposal of the Secretary of the Interior (43 CFR 2310.1-3(e)).

The purpose of the proposed withdrawal is to protect and preserve the Agua Caliente SEZ for a 20-year period in anticipation that it will be available for solar energy development.

The use of a right-of-way, interagency or cooperative agreement, or discretionary surface management by the BLM under 43 CFR 3715 or 43 CFR 3809 regulations will not adequately constrain nondiscretionary uses, which could result in loss of adequate protection and preservation of the subject lands for future solar energy development. There are no suitable alternative sites for the withdrawal.

No water rights would be needed to fulfill the purpose of the requested withdrawal.

Records relating to the application for the proposed withdrawal may be examined by contacting Lane Cowger at the above address.

The application for the proposed withdrawal will be processed in accordance with the regulations set forth in 43 CFR 2300.

For a period until December 22, 2014, all persons who wish to submit comments, suggestions, or objections in connection with the proposed withdrawal may present their views in writing to the BLM at the address noted above.

If a public meeting is requested in connection with the proposed withdrawal, information about the date, time, and location of the meeting will be provided to news outlets in Arizona at least 30 days prior to the meeting. At the meeting, the public would have an opportunity to provide oral and written comments.

All comments received will be considered before any recommendation concerning the proposed withdrawal is submitted to the Secretary of the Interior for final action.

For a period until September 21, 2016, the public lands described in this notice will be segregated from location or entry under the United States mining laws, but not from leasing under the mineral or geothermal leasing laws, or disposal under the Materials Act of 1947, unless the application is denied or canceled or the withdrawal is approved prior to that date.

Comments including names and street addresses of respondents will be available for public review at the BLM Arizona State Office at the address noted above, during regular business hours 9 a.m. to 4 p.m., Monday through Friday, except Federal holidays. Before including your address, phone number, email address, or other personal identifying information in your comment, you should be aware that your entire comment—including your personal identifying information—may be made publicly available at any time. While you can ask us in your comment to withhold your personal identifying information from public review, we cannot guarantee that we will be able to do so.

Authority: 43 CFR 2310.3-1.

Julie A. Decker,
Deputy State Director, Resources.

[FR Doc. 2014-22407 Filed 9-19-14; 8:45 am]

BILLING CODE 4310-32-P